DEPARTMENT OF THE INTERIOR

Bureau of Land Management

[LLNVE030000.L10600000.DI0000 241A; 12-08807; MO# 4500035685; TAS: 14X1109]

Notice of Intent To Prepare an Environmental Impact Statement for Proposed Wild Horse Eco-Sanctuary in Elko County, Nevada, and an Associated Resource Management Plan Amendment for the Wells Field Office

AGENCY: Bureau of Land Management, Interior.

ACTION: Notice of Intent.

SUMMARY: In compliance with the National Environmental Policy Act of 1969, as amended (NEPA), and the Federal Land Policy and Management Act of 1976, as amended, the Bureau of Land Management (BLM) Wells Field Office, Elko, Nevada, intends to prepare an Environmental Impact Statement (EIS) and an associated Resource Management Plan (RMP) amendment for a proposed privately operated wild horse eco-sanctuary and by this notice, is announcing the beginning of the scoping process to solicit public comments and identify issues.

DATES: This notice initiates the public scoping process for the EIS and associated RMP amendment. Comments on issues may be submitted until September 14, 2012. The date(s) and location(s) of any scoping meetings will be announced at least 15 days in advance through local news media, mailings to interested individuals, and the BLM Elko District Web site at: http://www.blm.gov/nv/st/en/fo/elko_field_office.html. In order to be included in the analysis, all comments must be received prior to the close of the 30-day scoping period or 15 days after the last public meeting, whichever is later. The BLM will provide additional opportunities for public participation as appropriate.

ADDRESSES: You may submit comments on issues and planning criteria related to the EIS and RMP amendment by any of the following methods:

• Email: EcoSanctuaryComments@blm.gov

• Fax: 775-753-0255

• Mail: Bureau of Land Management, Wild Horse Sanctuary RMP Amendment, Wells Field Office, 3900 E. Idaho Street, Elko, NV 89801

Documents pertinent to this proposal may be examined at the BLM Elko District Office, 3900 E. Idaho Street, Elko, Nevada, during regular business hours of 7:45 a.m. to 4:30 p.m., Monday through Friday, except holidays. Pertinent documents are also available on-line at: http://www.blm.gov/nv/st/en/fo/elko_field_office.html.

FOR FURTHER INFORMATION CONTACT: For further information or to have your name added to our mailing list, contact Judy May, resource assistant, BLM Wells Field Office, telephone: 775-753-0267; address: 3900 East Idaho Street, Elko, NV 89801; email: jmay@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: This document provides notice that the BLM Wells Field Office, Elko, Nevada, intends to prepare an EIS with an associated RMP amendment to the Wells RMP, and announces the beginning of the scoping process and seeks public input on issues and planning criteria. The planning area is located in Elko County, Nevada, and encompasses approximately 510,000 acres of public land. The organization Saving America's Mustangs (SAM) proposes to establish a privately operated eco-sanctuary to accommodate up to 900 non-reproducing wild horses (all one sex or sterilized) on a mixture of public and private lands in Elko County, Nevada, about 25 miles southeast of Wells. The proposed eco-sanctuary is in response to the BLM's request for applications for funding (Funding Opportunity L11AS0043) to assist in the development of a Wild Horse Partnership for an Eco-Sanctuary on Public and Private Land. Preliminarily, the BLM expects that the EIS will address the impacts of the proposed eco-sanctuary and reasonable alternatives to that proposal, and an RMP amendment that may: (1) Adjust the boundaries and management objectives of existing wild horse herd management areas (HMAs) within or near the proposed eco-sanctuary; and (2) reduce and potentially eliminate livestock grazing within the portion of the Spruce Allotment east of Highway 93. The purpose of the public scoping process is to determine relevant issues that will influence the scope of the environmental analysis, including alternatives, and guide the process for developing the EIS. At present, the BLM has identified the following preliminary issues:

(a) Potential effects to archaeological resources.

(b) Potential effects to greater sage-grouse and other sensitive species.

(c) Potential effects to important elk, mule deer, and other wildlife habitats.

(d) Ability to meet standards for rangeland health.

(e) Ability to manage healthy wild horse populations within the eco-sanctuary.

(f) Ability to provide public access for recreational purposes.

(g) Potential effects of reducing public lands available for livestock grazing.

(h) Ability to manage non-reproducing herd.

Preliminary planning criteria for the RMP amendment include:

1. Any amendment to the Wells RMP will comply with FLPMA (43 U.S.C 1701) and the BLM's land use planning regulations (43 CFR 1600).

2. Public participation would be encouraged throughout the process. The Wells Field Office managers and interdisciplinary team members will work cooperatively with the State of Nevada, tribal governments, county and municipal governments, other Federal agencies, local resource advisory councils, appellants, affected permittees, and any other interested groups, agencies, and individuals.

3. The EIS will comply with NEPA (42 U.S.C. 4332 et seq.) and its implementing regulations, as well as other Federal regulations.

4. Any amendment to the Wells RMP will appropriately recognize the State's authority to manage wildlife and water.

5. Any amendment to the Wells RMP will recognize valid existing rights.

6. The State Historic Preservation Officer (SHPO) will be consulted under the NHPA and kept involved throughout the planning process, consistent with the National Programmatic Agreement (February 2012) and the State of Nevada Protocol Agreement between the BLM and SHPO (revised February 2012). Integration of the public involvement provisions of the NHPA and NEPA will follow the guidance in Washington Office Instruction Memorandum 2012-108.

7. The BLM will address transportation and access within the planning area, if appropriate, to meet the objectives identified for the eco-sanctuary.

8. Existing planning decisions in the Wells RMP not modified by this amendment would remain valid.

9. All proposed management activities, including adjusting wild horse levels would be based upon current scientific information, and research and technology, as well as existing inventory and monitoring information.

10. Adaptive management principles will be used in development of the plan amendment to provide management direction if additional actions or modified actions would be needed for the protection of wild horses or the sustainability of the land and its resources.

You may submit comments on issues and planning criteria in writing to the BLM at any public scoping meeting, or you may submit them to the BLM using one of the methods listed in the “ADDRESSES” section above. You should submit comments by the close of the 30-day scoping period or within 15 days after the last public meeting, whichever is later.

The BLM will utilize and coordinate the NEPA public participation requirements to assist the agency in satisfying the public involvement requirements under Section 106 of the National Historic Preservation Act (NHPA) (16 U.S.C. 470f) pursuant to 36 CFR 800.2(d)(3). The information about historic and cultural resources within the area potentially affected by the proposed action will assist the BLM in identifying and evaluating impacts to such resources in the context of both NEPA and Section 106 of the NHPA.

The BLM will consult with Indian tribes on a government-to-government basis in accordance with Executive Order 13175 and other policies. Tribal concerns, including impacts on Indian trust assets and potential impacts to cultural resources, will be given due consideration. Federal, State, and local agencies, along with tribes and other stakeholders that may be interested in or affected by the proposed action that the BLM is evaluating, are invited to participate in the scoping process and, if eligible, may request or be requested by the BLM to participate in the development of the environmental analysis as a cooperating agency.

Before including your address, phone number, email address, or other personal identifying information in your comment, you should be aware that your entire comment—including your personal identifying information—may be made publicly available at any time. While you can ask us in your comment to withhold your personal identifying information from public review, we cannot guarantee that we will be able to do so.

The minutes and list of attendees for each scoping meeting will be available to the public and open for 30 days after the meeting to any participant who wishes to clarify the views he or she expressed.

The BLM will evaluate identified issues to be addressed in the plan, and will place them into one of three categories:

1. Issues to be resolved in the plan amendment;

2. Issues to be resolved through policy or administrative action; or

3. Issues beyond the scope of this plan amendment.

The BLM will provide an explanation in the Draft EIS as to why an issue was placed in category two or three. The public is also encouraged to help identify any management questions and concerns that should be addressed in the plan. The BLM will work collaboratively with interested parties to identify the management decisions that are best suited to local, regional, and national needs and concerns.

The BLM will use an interdisciplinary approach to develop the plan amendment in order to consider the variety of resource issues and concerns identified. Specialists with expertise in the following disciplines will be involved in the planning process: Wild horse and burro, rangeland management, outdoor recreation, archaeology, wildlife and fisheries, lands and realty, hydrology, soils, sociology, and economics.

Authority: 40 CFR 1501.7 and 43 CFR 1610.2.

Bryan K. Fuell,
Manager,
Wells Field Office.

[FR Doc. 2012-20022 Filed 8-14-12; 8:45 am]

BILLING CODE 4310-HC-P